DEPARTMENT OF HOMELAND SECURITY

Transportation Security Administration

Intent To Request Extension From OMB of One Current Public Collection of Information: Law Enforcement Officers Safety Act and Retired Badge/Credential

AGENCY: Transportation Security Administration, DHS.

ACTION: 60-Day notice.

SUMMARY: The Transportation Security Administration (TSA) invites public comment on one currently approved Information Collection Request (ICR), Office of Management and Budget (OMB) control number 1652-0071, that we will submit to OMB for an extension in compliance with the Paperwork Reduction Act (PRA). The ICR describes the nature of the information collection and its expected burden. This collection involves the submission of information from certain current and former TSA employees who are interested in obtaining a Law Enforcement Officers Safety Act of 2004 (LEOSA) Identification (ID) Card, a retired badge, and/or a retired credential.

DATES: Send your comments by June 23, 2025.

ADDRESSES: Comments may be emailed to TSAPRA@tsa.dhs.gov or delivered to the TSA PRA Officer, Information Technology, TSA-11, Transportation Security Administration, 6595 Springfield Center Drive, Springfield, VA 20598-6011.

FOR FURTHER INFORMATION CONTACT: Christina A. Walsh at the above address, or by telephone at (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

LEOSA

OMB Control Number 1652-0071; Law Enforcement Officers Safety Act and Retired Badge/Credential. Under 18 U.S.C. 926C, which codifies a portion of LEOSA,¹ a “qualified retired law enforcement officer” may carry a concealed firearm in any jurisdiction in the United States, regardless of State or local laws, with certain limitations and conditions. In accordance with LEOSA, the Department of Homeland Security (DHS) issued DHS Directive and Instruction Manual 257-01, Law Enforcement Officers Safety Act (Dec. 22, 2017). DHS Directive 257-01 requires DHS components to implement the provisions of LEOSA pertaining to qualified retired Law Enforcement Officers (LEOs) as cost-effectively and efficiently as possible consistent with the requirements and intent of the statute for LEOs formerly employed by DHS and predecessor agencies.

¹ Public Law 108-277 (118 Stat. 865, July 22, 2004), codified in 18 U.S.C. 926B and 926C, as amended by the Law Enforcement Officers Safety Act Improvements Act of 2010 (Pub. L. 111-272 (124 Stat. 2855; Oct. 12, 2010)) and National Defense Authorization Act for Fiscal Year 2013 (Pub. L. 112-239 (126 Stat. 1970; Jan. 2, 2013)).

TSA subsequently issued TSA Management Directive (MD) 3500.1, LEOSA Applicability and Eligibility (June 5, 2018), to implement the LEOSA statute and DHS directive. Under this MD, TSA issues photographic identification to retired LEOs who separated or retired from TSA in “good standing” and meet other qualification requirements identified in this MD.

Retired Badge/Credential

Under TSA MD 2800.11, Badge and Credential Program, a TSA employee retiring from Federal service is eligible to receive a “retired badge and/or credential” if the individual: (1) was issued a badge and/or credential, (2) qualifies for a Federal annuity under the Civil Service Retirement System or the Federal Employees Retirement System, and (3) meets all of the other qualification requirements under the MD.²

² These instructions are included in DHS Instruction: 121-01-002 (Issuance and Control of DHS Badges); DHS Instruction 121-01-008 (Issuance and Control of the DHS Credentials); and the associated Handbook for TSA MD 2800.11.

If the employee is approved for a retired badge and/or credential, his or her badge and/or credential will be replicated by TSA and marked with the word “RETIRED,” to indicate that the retired employee no longer has the authority to perform specific official functions pursuant to law, statute, regulation, or DHS Directive. In the case of a retired LEO, the individual is prohibited from using the TSA retired credential as photographic identification for the purposes of the LEOSA.

Under TSA's current application process for these two programs, qualified applicants may apply for a LEOSA ID Card, a retired badge, and/or a retired credential, as applicable, either while still employed by TSA (shortly before separating or retiring) or after they have separated or retired (after they become private citizens, i.e., are no longer employed by the Federal Government).

The LEOSA ID Card Application (TSA Form 2825A) requires collection of identifying information, contact information, official title, separation date, and last known field office. Identifying information, such as the date of birth and social security number, are necessary to confirm the individual's identity and to process the individual through the National Crime Information Center database. Similarly, for purposes of a retired badge and/or credential, TSA Form 2808-R, Retired Badge and/or Retired Credential Application, requires collection of identifying information, contact information, TSA employment/position information (TSA component or Government agency), official title, and entry on duty date. This collection of information is necessary to confirm the identity of the individual, conduct the necessary qualification process to determine the individual's eligibility for a retired badge and/or credential, and to contact the individual if needed.

Based on current data, TSA estimates 168 TSA Forms 2825A and 170 TSA Forms 2808-R will be submitted, for a total of 338 respondents annually. Some applications will be rejected, so TSA estimates it will also receive three requests to review rejected applications. It takes approximately 5 minutes (0.08333 hours) to complete either form, plus 8 hours to prepare a request to review a rejected application, so the total annual hour burden to the public will be 52.17 hours ((338 × 0.0833 hours = 28.17) + (3 × 8 hours = 24)).

Dated: April 17, 2025.
Christina A. Walsh,
TSA Paperwork Reduction Act Officer, Information Technology, Transportation Security Administration.

[FR Doc. 2025-06935 Filed 4-22-25; 8:45 am]

BILLING CODE 9110-05-P